DEPARTMENT OF LABOR

Mine Safety and Health Administration

Petitions for Modification

The following parties have filed petitions to modify the application of existing safety standards under section 101(c) of the Federal Mine Safety and Health Act of 1977.

1. Knott County Mining Company

[Docket No. M-2003-096-C]

Knott County Mining Company, PO Box 102, Kite, Kentucky 41828 has filed a petition to modify the application of 30 CFR 75.900 (Low and medium-voltage circuits serving three-phase alternating current equipment; circuits breakers) to its Mine 582 (MSHA I.D. No. 15-18522) located in Knott County, Kentucky. The petitioner proposes to use contactors for under-voltage protection in lieu of using the required circuit breakers. The petitioner states that an additional ground fault protection device will be provided for the affected circuits; the hazards caused by personnel rushing to the remote locations to reset breakers will be eliminated; and travelways will be safer and the miners will not have to take risks out of a sense of urgency to resume production. The petitioner asserts that the proposed alternative method would provide at least the same measure of protection as the existing standard.

2. Knott County Mining Company

[Docket No. M-2003-097-C]

Knott County Mining Company, PO Box 102, Kite, Kentucky 41828 has filed a petition to modify the application of 30 CFR 75.900 (Low and medium-voltage circuits serving three-phase alternating current equipment; circuits breakers) to its Puncheon Branch Mine (MSHA I.D. No. 15-17110) located in Knott County, Kentucky. The petitioner proposes to use contactors for under-voltage protection in lieu of using the required circuit breakers. The petitioner states that an additional ground fault protection device will be provided for the affected circuits; the hazards caused by personnel rushing to the remote locations to reset breakers will be eliminated; and travelways will be safer and the miners will not have to take risks out of a sense of urgency to resume production. The petitioner asserts that the proposed alternative method would provide at least the same measure of protection as the existing standard.

3. Little Buck Coal Company

[Docket No. M-2003-098-C]

Little Buck Coal Company, 57 Lincoln Road, Pine Grove, Pennsylvania 17963 has filed a petition to modify the application of 30 CFR 49.2(b) to its #2 Slope (MSHA I.D. No. 36-08299) located in Schuylkill County, Pennsylvania. The petitioner requests a modification of the standard to permit the reduction of two mine rescue teams with five members and one alternate each, to two mine rescue teams of three members with one alternate for either team. The petitioner asserts that application of the existing standard would result in a diminution of safety to the miners and that the proposed alternative method would provide at least the same measure of protection as the existing standard.

4. River Hill Coal Company, Inc.

[Docket No. M-2003-099-C]

River Hill Coal Company, Inc., PO Box 69, 1686 Tipple Road, Karthaus, Pennsylvania 16845 has filed a petition to modify the application of 30 CFR 77.700-1(c) (Approved methods of grounding) to its River Hill Coal Company Mine (MSHA I.D. No. 36-00884) located in Clearfield County, Pennsylvania. The petitioner requests a modification of the existing standard to permit an alternative method of compliance for providing a safer means of grounding three phase portable water pumps. The petitioner proposes to build and maintain a three phase generator truck and pump unit that will eliminate any potential between the metal frames of the unit and earth. The petitioner states that that generator would be resistance grounded through a direct neutral and the generator frames, and the truck frame and the pump frame would be connected to the resistance grounded neutral. The petitioner has listed specific procedures in this petition that would be followed when its proposed alternative method is implemented. The petitioner asserts that the proposed alternative method would provide at least the same measure of protection as the existing standard with no diminution of safety to the miners.

5. L-Coal Company

[Docket No. M-2003-100-C]

L-Coal Company, RD #2, Box 630, Shamokin, Pennsylvania 17872 has filed a petition to modify the application of 30 CFR 75.332(b)(1) & (b)(2) (Working sections and working places) to its Lenig Tunnel Mine (MSHA I.D. No. 36-08288) located in Northumberland County, Pennsylvania. The petitioner proposes to use air passing through inaccessible abandoned workings and additional areas, which is not examined under other mandatory standards and is currently mixing with the air in the intake haulage slope, to ventilate the only active working sections; to ensure air quality by sampling intake air during pre-shift and on-shift examinations, not to exceed each 2 hours; and to suspend mine production when air quality fails to meet specified criteria. The petitioner asserts that the proposed alternative method would provide at least the same measure of protection as the existing standard.

6. McElroy Coal Company

[Docket No. M-2004-001-C]

McElroy Coal Company, RD 1, Box 67A, Glen Easton, West Virginia 26039 has filed a petition to modify the application of 30 CFR 75.364(b)(2) (Weekly examination) to its McElroy Mine (MSHA I.D. No. 46-01437) located in Marshall County, West Virginia. Due to deteriorating roof conditions in the Main East return air entries, traveling the entire entry from One North seals to the Preparation Plant exhaust fan bottom would be unsafe to make weekly examinations. The petitioner proposes to establish a check point on each side of the bad top area to monitor the return air in the affected area. These monitoring stations will be established at Station Number 1 located in the air leg outby the Number One Seal, and Station Number 2 located in the entry toward Main East inby the Number Six seal of One North Seals. The petitioner states that all monitoring stations and the approaches to such stations will be maintained in safe condition at all times; tests for methane and the quantity and quality of air will be determined by a certified person on a weekly basis at each monitoring station; the date, initials of the examiner, time, and results of the examinations will be recorded in a book or on a date board at the monitoring stations; and results of the examinations will also be recorded in a book that will be kept on the surface and made available to all interested parties. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2350, Arlington, Virginia 22209. All comments must be postmarked or received in that office on or before February 26, 2004. Copies of these petitions are available for inspection at that address.

Dated at Arlington, Virginia this 22nd day of January 2004.
Marvin W. Nichols, Jr.,
Director, Office of Standards, Regulations, and Variances.

[FR Doc. 04-1637 Filed 1-26-04; 8:45 am]

BILLING CODE 4510-43-P